DEPARTMENT OF DEFENSE

Department of the Navy

Notice of Availability of Government-Owned Inventions; Available for Licensing

AGENCY: Department of the Navy, DoD.

ACTION: Notice.

SUMMARY: The inventions listed below are assigned to the United States Government as represented by the Secretary of the Navy and are available for licensing by the Department of the Navy.

U.S. Patent Number 6,375,726 entitled “Corrosion Resistant Coatings for Aluminum and Aluminum Alloys”, Navy Case No. 82512, Inventors Matzdorf et al., Issue Date 23 April 2002, Patent Cooperation Treaty (PCT) filing.//U.S. Patent Number 6,511,532 entitled “Post Treatment for Anodized Aluminum”, Navy Case No.83248, Inventors Matzdorf et al., Issue Date 28 January 2003, PCT filing.//U.S. Patent Number 6,521,029 entitled “Pretreatment for Aluminum and Aluminum Alloys”, Navy Case No. 83393, Inventors Matzdorf et al., Issue Date 18 Feb 2003.//U.S. Patent Number 6,527,841 entitled “Post Treatment for Metal Coated Substrates”, Navy Case No. 83075, Inventors Matzdorf et al., Issue Date 4 March 2003, PCT filing.

ADDRESSES: Requests for data, samples of Trivalent Chromium Pre/Post-Treatment (TCP), panels treated with TCP, and inventor interviews should be directed to David Weston (406) 994-7477, dweston@montana.edu; or Dan Swanson (406) 994-7736, dds@montana.edu, TechLink, 900 Technology Blvd., Suite A, Bozeman, MT, 59718. TechLink is an authorized DOD partnership intermediary. Requests should be made prior to July 1, 2003.

FOR FURTHER INFORMATION CONTACT: Mr. Hans Kohler, Office of Research and Technology Applications, Building 150/2, Naval Air Warfare Center, Lakehurst, NJ 08733-5000, telephone (732) 323-2948, E-Mail: Hans.Kohler@navy.mil.

SUPPLEMENTARY INFORMATION: The U.S. Navy intends to move expeditiously to license these patents. Licensing application packages are available from TechLink and all applications and commercialization plans must be returned to TechLink by August 15, 2003. Additional information and revisions to applications may be requested by TechLink through August 30, 2003. TechLink will turn over all completed applications to the U.S. Navy for evaluation, final negotiation and award during the month of September 2003.

The Navy, in its decisions concerning the granting of licenses, will give special consideration to small business firms, and consortia involving small business firms.

The Navy intends to insure that its licensed inventions are broadly commercialized throughout the United States.

PCT applications have been filed for each of the patents as noted above. The Navy intends that licensees interested in a license in Europe, Canada, China, and Japan will assume foreign prosecution and pay the costs of such prosecution.

(Authority: 35 U.S.C. 207, 37 CFR Part 404)

Dated: May 29, 2003.
E.F. McDonnell,
Major, U.S. Marine Corps, Federal Register Liaison Officer.

[FR Doc. 03-13967 Filed 6-3-03; 8:45 am]

BILLING CODE 3810-FF-P